DEPARTMENT OF STATE

[Public Notice 7110]

Shipping Coordinating Committee; Notice of Committee Meeting

The Shipping Coordinating Committee (SHC) will conduct four separate open meetings to prepare for upcoming events at the International Maritime Organization (IMO) in London, United Kingdom. The first of these open meetings will be held at 9:30 a.m. on Tuesday, September 21st, 2010, in Room 2415 of the United States Coast Guard Headquarters Building, 2100 Second Street, SW., Washington, DC 20593-0001. The primary purpose of this meeting is to prepare for the fifty-fourth Session of the IMO Sub-Committee on Ship Design and Equipment (DE 54) to be held from October 25th through October 29th, 2010.

The primary matters to be considered at DE 54 include:

—Guidance to ensure consistent policy for determining the need for watertight doors to remain open during navigation;

—Safety provisions applicable to tenders operating from passenger ships;

—Interpretation on application of SOLAS, MARPOL and Load Line requirements for major conversions of oil tankers;

—Application of amendments to SOLAS chapter III and the LSA Code;

—Performance standards for recovery systems for all types of ships;

—Guidelines for a visible element to general alarm systems on passenger ships;

—Development of new framework of requirements for life-saving appliances;

—Amendments to Assembly Resolution A.744(18);

—Development of a mandatory Code for ships operating in polar waters;

—Thermal performance of immersion suits;

—Protection against noise on board ships;

—Amendments to the Revised recommendation on testing of life-saving appliances;

—Consideration of IACS unified interpretations;

—Test standards for type approval of add-on equipment;

—Measures to promote integrated bilge water treatment systems;

—Guidelines for a shipboard oil waste pollution prevention plan;

—Manually operated alternatives in the event of prevention pollution equipment malfunctions.

The next three open meetings will be held at 9:30 a.m. on Wednesday November 17th, 2010, Wednesday December 15th, 2010, and Wednesday February 16th, 2011 in suite 1060 of the Radio Technical Commission for Maritime Services (RTCM), 1800 North Kent Street, Arlington, VA 22209. The primary purpose of these three meetings is to prepare for the 15th Session of the IMO Subcommittee on Radio communications and Search and Rescue (COMSAR 15) to be held from March 7 through March 11, 2011.

The primary matters to be considered at COMSAR 15 include:

—Global Maritime Distress and Safety System (GMDSS)

—ITU Radiocommunication matters

—Satellite services (Inmarsat and COSPAS-SARSAT)

—Matters concerning search and rescue, including those related to the 1979 SAR Conference and the implementation of the GMDSS

—Developments in maritime radiocommunication systems and technology

—Revision of the IAMSAR Manual

—Safety provisions applicable to tenders operating from passenger ships

—Measures to protect the safety of persons rescued at sea

—Development of an e-navigation strategy implementation plan

—Revision of Performance Standards for float-free satellite EPIRBs operating on 406 MHz (resolution A.810(19))

Members of the public may attend the four meetings up to the seating capacity of the rooms. To facilitate the building security process and request reasonable accommodations, those who plan to attend one or all of the four meetings should contact the following coordinators at least 7 days prior to the meetings:

—For the one DE 54 meeting on September 21st, contact Mr. Wayne Lundy, by e-mail at wayne.m.lundy@uscg.mil, by phone at (202) 372-1379, by fax at (202) 372-1925, or in writing at Commandant (CG-5224), U.S. Coast Guard, 2100 2nd Street, SW., Stop 7126, Washington, DC 20593-7126 not later than September 14th, 2010, 7 days prior to the meeting. Requests made after September 14th might not be able to be accommodated.

—For the three COMSAR 15 meetings on November 17th, 2010, December 15th, 2010, and February 16th, 2011 contact Mr. Russell Levin, by e-mail at russell.s.levin@uscg.mil, by phone at (202) 475-3555, by fax at (202) 475-3927, or in writing at Commandant (CG-652), U.S. Coast Guard, 2100 2nd Street, SW., Stop 7101, Washington, DC 20593-7101 not later than 7 days prior to the meetings. Later requests might not be able to be accommodated.

Due to security considerations at Coast Guard Headquarters in Washington, DC, two valid, government issued photo identifications must be presented to gain entrance to the building. The Coast Guard Headquarters building is accessible by taxi and privately owned conveyance (public transportation is not generally available). However, parking in the vicinity of the building is extremely limited.

Access to RTCM in Arlington, VA does not require the production of government issued photo identification. In addition, paid parking is generally available in the building at 1800 North Kent Street, Arlington, VA. Additional information regarding the IMO SHC public meetings may be found at: http://www.uscg.mil/imo.

Dated: August 30, 2010.
Jon Trent Warner,
Executive Secretary, Shipping Coordinating Committee, Department of State.

[FR Doc. 2010-22195 Filed 9-3-10; 8:45 am]

BILLING CODE 4710-09-P